Title 3—

The President

Proclamation 10877 of December 30, 2024

National Human Trafficking Prevention Month, 2025

By the President of the United States of America

A Proclamation

Across the world, more than 27 million people, including thousands here at home, are subjected to the shameful, abhorrent abuse of human trafficking and forced labor. Human trafficking targets the most vulnerable in society and exploits them—denying their human rights, freedom, and dignity. It is a stain on our collective conscience and an affront to basic human dignity. During National Human Trafficking Prevention Month, we recommit to working to end human trafficking in America and around the globe.

Any form of trafficking in people—from forced labor to sex trafficking—must not be tolerated, in the United States or anywhere around the world. That is why in 2021, I signed an updated National Action Plan (NAP) to Combat Human Trafficking, detailing my Administration's focus on prosecuting perpetrators, protecting survivors, and partnering with governments and organizations around the globe to end this scourge. The NAP also recognizes that human traffickers target people considered vulnerable in society—people from racial and ethnic minorities, women and girls, LGBTQI+ individuals, and others from marginalized backgrounds.

Here at home, we have worked to crack down on human trafficking and combat gender-based violence in America. I remain proud that I first wrote the Violence Against Women Act as a United States Senator and I have worked to strengthen it ever since. That is why when I reauthorized it in 2022, I expanded Tribal court jurisdiction to prosecute non-Native sex traffickers. Furthermore, through my American Rescue Plan, my Administration delivered tens of thousands of housing vouchers to ensure people fleeing human trafficking or other violence have a safe home to go to. At the same time, we have been committed to working with survivors to support their path to recovery and healing, and improving our approach to preventing, identifying, and prosecuting these crimes. We have also taken steps to prevent trafficking in the United States by strengthening protections for vulnerable workers, including issuing new rules to improve worker protections and strengthen program integrity in temporary visa programs and releasing an updated version of the Department of State's Wilberforce “Know Your Rights” pamphlet.

Around the world, we are also working with governments and organizations to put a stop to human trafficking. I signed the bipartisan Uyghur Forced Labor Prevention Act in 2021 and, from the moment the law took effect in 2022, Federal agencies have been working to ensure that no American imports are produced using forced labor. I signed the first-ever Presidential Memorandum to prioritize strong labor standards in our Nation's foreign policy as we work to build a world where our economic system gives predatory traffickers no safe harbor. In the 2024 Trafficking in Persons Report, the Department of State measured progress in 188 countries, including the United States, by deploying powerful technology tools to combat this scourge, and sanctioned over 240 individuals and entities for serious human rights abuses under the Global Magnitsky Sanctions Program.

During National Human Trafficking Prevention Month, I encourage Americans to learn the signs of human trafficking and share the National Human Trafficking Hotline (888-373-7888), where one can report a tip or ask for help. Together, we can create a world where every person is treated with dignity and respect, lives free from fear, and can lead a life full of freedom and liberty.

NOW, THEREFORE, I, JOSEPH R. BIDEN JR., President of the United States of America, by virtue of the authority vested in me by the Constitution and the laws of the United States, do hereby proclaim January 2025 as National Human Trafficking Prevention Month. I call upon businesses, civil society organizations, communities of faith, families, and all Americans to recognize the vital role we play in combating human trafficking and to observe this month with appropriate programs and activities aimed at preventing all forms of human trafficking.

IN WITNESS WHEREOF, I have hereunto set my hand this thirtieth day of December, in the year of our Lord two thousand twenty-four, and of the Independence of the United States of America the two hundred and forty-ninth.

[FR Doc. 2025-00078

Filed 1-3-25; 8:45 am]

Billing code 3395-F4-P